SECURITIES AND EXCHANGE COMMISSION

[File No. 500-1]

In the Matter of Rudy 45; Order of Suspension of Trading

June 26, 2006.

It appears to the Securities and Exchange Commission that there is a lack of current and accurate information concerning the securities of Rudy 45 (“RDYF”) because the company has failed to make required periodic corporate filings and/or has made inadequate or incomplete periodic corporate filings since December 2004, because of questions raised regarding the accuracy and adequacy of publicly disseminated information concerning, among other things, an acquisition announced by Rudy 45, and because of possible manipulative conduct occurring in the market for the company's stock.

The Commission is of the opinion that the public interest and the protection of investors require a suspension of trading in the securities of the above-listed company.

Therefore, it is ordered, pursuant to Section 12(k) of the Securities Exchange Act of 1934, that trading in the above-listed company is suspended for the period from 9:30 a.m. EDT, on June 26, 2006 through 11:59 p.m. EDT, on July 10, 2006.

By the Commission.
Nancy M. Morris,
Secretary.

[FR Doc. 06-5791 Filed 6-26-06; 11:51 am]

BILLING CODE 8010-01-P